DEPARTMENT OF ENERGY

Federal Energy Regulatory Commission

[Project No. 637-022—WA]

Public Utility District No.1 of Chelan County; Notice of Meeting To Discuss Settlement Agreement for the Licensing of the Lake Chelan Project

October 20, 2003.

On November 6, 2003, staff from the Public Utility District No. 1 of Chelan County will meet with Commission staff to discuss the settlement agreement for the licensing of the Lake Chelan Hydroelectric Project, located on the Chelan River near the City of Chelan, Washington. The meeting will be held at the Federal Energy Regulatory Commission, 888 First Street NE., Washington, DC, on November 6, 2003, from 9 a.m. to 12 p.m. in Hearing Room 3. All interested individuals, organizations, and agencies are invited to attend, and should contact David Turner at 202-502-6091 by November 3, 2003 if they plan to attend. This meeting is posted on the Commission's calendar located at http://www.ferc.gov/EventCalendar/EventsList.aspx along with other related information.

If you have further questions, please contact David Turner, at 202-502-6091.

Linda Mitry,
Acting Secretary.

[FR Doc. E3-00280 Filed 11-14-03; 8:45 am]

BILLING CODE 6717-01-P